DEPARTMENT OF JUSTICE

[CPCLO Order No. 01-2025]

Privacy Act of 1974; Systems of Records

AGENCY: Executive Office for Immigration Review, United States Department of Justice.

ACTION: Notice of a modified system of records.

SUMMARY: Pursuant to the Privacy Act of 1974 and Office of Management and Budget (OMB) Circular No. A-108, notice is hereby given that the Executive Office for Immigration Review (EOIR), a component within the United States Department of Justice (DOJ or Department), proposes to modify a system of records notice titled Roster of Organizations and their Accredited Representatives Recognized by the Board of Immigration Appeals, JUSTICE/BIA-002. In 2016, EOIR issued a final rule amending the regulations governing the requirements and procedures for the recognition of organizations and the accreditation of those organizations' representatives to represent persons in proceedings before EOIR and the Department of Homeland Security (DHS). Those regulatory amendments transferred the administration of the Recognition and Accreditation (R&A) Program within EOIR from the Board of Immigration Appeals (Board) to the Office of Legal Access Programs (OLAP). In 2019, the R&A Program was transferred by regulation to the Office of Policy (OP), the part of EOIR that oversees OLAP. EOIR proposes to modify JUSTICE/BIA-002 and to change the system number to JUSTICE/EOIR-004 to reflect the transfer of the R&A Program to OP. The last publication of the complete system of records notice was in 1980, prior to the issuance of OMB A-108. As such, EOIR is re-publishing the System of Records Notice for this system, in full. Additionally, the agency's Access EOIR initiative gave rise to the modernization of the Recognition and Accreditation Program application process through the development of the Recognition and Accreditation Access (RAA) system allowing prospective applicants to apply online for recognition or accreditation and online account management of an approved organization. Modified JUSTICE/EOIR-004 captures this modernization effort.

DATES: In accordance with 5 U.S.C. 552a(e)(4) and (11), this notice is applicable upon publication, subject to a 30-day period in which to comment on the routine uses, described below. Therefore, please submit any comments by May 19, 2025.

ADDRESSES: The public, OMB, and Congress are invited to submit any comments: by mail to the United States Department of Justice, Office of Privacy and Civil Liberties, ATTN: Privacy Analyst, Two Constitution Square, 145 N St. NE, Suite 8W-300, Washington, DC 20530; by facsimile at 202-307-0693; or by email at privacy.compliance@usdoj.gov. To ensure proper handling, please reference the above CPCLO Order No. on your correspondence.

FOR FURTHER INFORMATION CONTACT: Alexander Y. Hartman, Senior Associate General Counsel and Senior Component Official for Privacy, Office of the General Counsel; Executive Office for Immigration Review, 5107 Leesburg Pike, Suite 2600, Falls Church, VA 22041, telephone: (703) 305-0470; EOIR.Privacy.Intake@usdoj.gov; Sarah Flinn, Acting Assistant Director, Office of Policy, Executive Office for Immigration Review, 5107 Leesburg Pike, Suite 2500, Falls Church, VA 22041, telephone: (703) 305-0289; sarah.m.flinn@usdoj.gov.

SUPPLEMENTARY INFORMATION: The DOJ is modifying this system of records, Recognition and Accreditation Program Records, JUSTICE/EOIR-004, as a replacement for the prior system of records, entitled Roster of Organizations and Their Accredited Representatives Recognized by the Board of Immigration Appeals, JUSTICE/BIA-002, (45 FR 75908), rescinded on March 31, 2025, in part because the Board is no longer responsible for overseeing and maintaining the R&A Program and in part due to the modernization of the R&A Program permitting an online application process and online account management for an approved organization through the RAA system. Established pursuant to 8 CFR 1292.1(a)(4), the R&A Program aims to increase the availability of competent legal immigration representation for low-income and indigent aliens by recognizing non-profit, federally tax-exempt organizations and accrediting their non-attorney representatives. The R&A Program recognizes eligible organizations to provide representation through non-attorney Accredited Representatives who appear on behalf of clients before the Immigration Courts, the Board, and DHS, or DHS alone. 8 CFR 1292.11. Each organization must designate an Authorized Officer to act on behalf of the organization in recognition and accreditation matters. Id. Pursuant to 8 CFR 1292.11-.13, OP is presently responsible for recognizing organizations and accrediting their representatives. OP maintains the system of records, which consists of (1) a roster of non-profit religious, charitable, social service, and similar organizations and their Accredited Representatives; (2) applications and related documents submitted by such organizations for recognition and accreditation; (3) documents generated by OP in the course of reviewing such applications, including determinations approving or disapproving recognition and accreditation requests as well as determinations terminating recognition or accreditation status; and (4) documents obtained by OP from external sources in the course of reviewing such applications, including recommendations from EOIR's Office of Security, recommendations or complaints received from U.S. Citizenship and Immigration Services (USCIS), as well as complaints received from the public about specific organizations or representatives. On January 18, 2017, control of the R&A Program and its attendant responsibilities of recognizing organizations and accrediting their representatives was transferred from the Board to OLAP. See 81 FR 92346 (Dec. 19, 2016). In 2019, such control transferred from OLAP to OP. See 84 FR 44537 (Aug. 26, 2019). Accordingly, the relevant records in the Board system of records have been transferred to OP.

In furtherance of the agency's Access EOIR initiative, OP is instituting an updated and streamlined electronic management and storage system for R&A Program records. The new system will improve efficiencies, accountability, and accuracy in OP's review of applications for recognition and accreditation and for the management of the R&A Program. The system is a full-scope computer-based program that will fully automate the R&A Program application process. Internally, the system will shift all processing of the R&A Program applications to the automated system, which will include processes that will require the verification of the presence and sufficiency of all documentation necessary to demonstrate an applicant's or organization's eligibility for admittance into the Program. Externally through the RAA system, the system will allow applicants and organizations to fully submit all applications for recognition and accreditation electronically. On behalf of DHS, USCIS will have the ability to upload, save, edit, digitally sign, and submit documents online through the system, as well as view application documents received by EOIR. See https://getaccredited.eoir.justice.gov/login. Pursuant to the regulations, recognition and accreditation applications must be served on USCIS, and USCIS is afforded an opportunity to comment on the application prior to EOIR's final determination. See 8 CFR 1292.13 et seq. Lastly, OP will have the ability to issue determinations through the system, send and receive notifications and periodic reminders, and run reports based on data in the system's different data fields.

In accordance with 5 U.S.C. 552a(r), the Department has provided a report to OMB and Congress on this notice of a modified system of records.

Dated: March 31, 2025.
Peter Winn,
Acting Chief Privacy and Civil Liberties Officer, United States Department of Justice.

JUSTICE/EOIR-004

SYSTEM NAME AND NUMBER:

Recognition and Accreditation Program Records, JUSTICE/EOIR-004.

SECURITY CLASSIFICATION:

Unclassified.

SYSTEM LOCATION:

Executive Office for Immigration Review, Department of Justice, 5107 Leesburg Pike, Suite 2500, Falls Church, VA 22041.

SYSTEM MANAGER(S):

EOIR Chief Information Officer, Office of Information Technology, 5107 Leesburg Pike, Suite 1900, Falls Church, VA 22041, and EOIR Office of Policy, 5107 Leesburg Pike, Suite 2500, Falls Church, VA 22041.

AUTHORITY FOR MAINTENANCE OF THE SYSTEM:

This system is established and maintained under the authority granted to the Attorney General pursuant to 8 U.S.C. 1103 and 1362. Such authority has been delegated to EOIR by 8 CFR part 1292.

PURPOSE(S) OF THE SYSTEM:

The primary mission of the Executive Office for Immigration Review (EOIR) at the Department of Justice (Department) is to adjudicate immigration cases by fairly, expeditiously, and uniformly interpreting and administering the Nation's immigration laws. Under delegated authority from the Attorney General, EOIR conducts immigration court proceedings, appellate reviews, and administrative hearings. EOIR created the Recognition and Accreditation (R&A) Program to increase the availability of competent legal immigration representation for low-income and indigent aliens by recognizing non-profit, federally tax-exempt organizations and accrediting their non-attorney representatives who appear on behalf of clients before EOIR and/or Department of Homeland Security (DHS) in immigration proceedings. 8 CFR 1292.1(a)(4), 1292.11. The purpose of this system is to facilitate EOIR's administration of the R&A Program. The system consists of the complete roster of non-profit religious, charitable, social service, and similar organizations and their Accredited Representatives; applications and related documents submitted by such organizations for recognition and accreditation; documents generated by EOIR in the course of reviewing such applications, including determinations approving or disapproving recognition and accreditation requests, as well as determinations terminating recognition or accreditation status; and documents obtained by EOIR from external sources in the course of reviewing such applications, including recommendations or complaints received from the public or U.S. Citizenship and Immigration Services (USCIS) about specific organizations or representatives. Such records are necessary to administer the R&A Program according to regulation. Therefore, the scope of the modified system of records, as proposed, is commensurate with the purpose of the system as described above.

CATEGORIES OF INDIVIDUALS COVERED BY THE SYSTEM:

The system includes information pertaining to Authorized Officers and other persons associated in an official capacity with a Recognized Organization or non-profit religious charitable, social service, and similar organizations seeking recognition, and persons on whose behalf an organization is seeking, has received, or has been denied accreditation.

CATEGORIES OF RECORDS IN THE SYSTEM:

The system consists of (1) paper and electronic applications and supporting documentation, which include organization mission statements, budget information, organizational and fee structures, tax records, and documents regarding staff members, submitted by non-profit religious charitable, social service, and similar organizations seeking their own recognition as well as the accreditation of their representatives; (2) documents generated by OP in the course of reviewing recognition and accreditation applications, including determinations approving or disapproving recognition to such organizations and/or accreditation of their representatives, as well as terminations of recognized organizations and accredited representatives; (3) an electronic database containing information provided in the applications and received in the course of reviewing the applications for recognition and accreditation; and (4) a roster of the Recognized Organizations and their Accredited Representatives. This system may include, among other things, the following information: the organizations' email addresses, fax numbers, and websites; names, email addresses, employment addresses, and dates of birth for individuals seeking or who have sought accreditation and Authorized Officers; letters of recommendation from organizations and individuals; DHS recommendation letters and investigation documents; background investigation information for those seeking accreditation; and any criminal, civil, and investigative history of the organizations or representatives acquired by OP during its review of initial or renewal applications for accreditation or recognition.

RECORD SOURCE CATEGORIES:

Records contained within the system are submitted by (1) the organizations seeking their own recognition or the accreditation of their representatives and (2) USCIS when recommending approval or disapproval of a recognition or accreditation application. The system also contains records generated by OP in the course of reviewing recognition and accreditation applications, including determinations approving or disapproving recognition to such organizations and/or accreditation of their representatives, including criminal, civil, and investigative history of the organizations or representatives acquired by OP. Sources of information contained in this system are supplied by the organization seeking recognition, individuals seeking accreditation, and reports and/or records supplied by EOIR.

ROUTINE USES OF RECORDS MAINTAINED IN THE SYSTEM, INCLUDING CATEGORIES OF USERS AND PURPOSES OF SUCH USES:

In addition to those disclosures generally permitted under 5 U.S.C. 552a(b), all or a portion of the records of information contained in this system of records may be disclosed as a routine use pursuant to 5 U.S.C. 552a(b)(3) under the circumstances or for the purposes described below, to the extent such disclosures are compatible with the purposes for which the information was collected:

(1) Copies of determinations approving or disapproving applications for recognition may be provided to the organization seeking recognition. Copies of determinations approving or disapproving applications for accreditation of an individual may be provided to the organization or the individual the organization seeks to accredit. Copies may also be provided to the Department of Homeland Security, U.S. Citizenship and Immigration Services.

(2) To Federal agencies involved in statistical analysis of data, and publication and/or reporting of aggregated or de-identified information designed to improve the efficiency and effectiveness of immigration proceedings at those agencies or to better meet EOIR's mission of adjudicating cases fairly and expeditiously, and uniformly interpreting and administering the Nation's immigration laws.

(3) To contacts listed on applications for recognition or accreditation, and associated forms, for the purpose of evaluating and verifying the applicant organization's data and proposed representative's claimed qualifications, experience, credentials, and eligibility.

(4) Information about the recognition or accreditation status of an organization or representative may be made public for awareness of which or how many organizations and individuals are currently recognized and accredited by EOIR, with the exception of information otherwise afforded confidential treatment by law or regulation.

(5) Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

(6) To contractors, grantees, experts, consultants, students, and others performing or working on a contract, service, grant, cooperative agreement, or other assignment for the Federal Government, when necessary to accomplish an agency function related to this system of records.

(7) To designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(8) To appropriate officials and employees of a Federal agency or entity that requires information relevant to a decision concerning the hiring, appointment, or retention of an employee; the assignment, detail, or deployment of an employee; the issuance, renewal, suspension, or revocation of a security clearance; the execution of a security or suitability investigation; the letting of a contract, or the issuance of a grant or benefit.

(9) To Federal, state, local, territorial, tribal, foreign, or international licensing agencies or associations which require information concerning the suitability or eligibility of an individual for a license or permit.

(10) To a Member of Congress or staff acting upon the Member's behalf when the Member or staff requests the information on behalf of, and at the request of, the individual who is the subject of the record.

(11) To the National Archives and Records Administration for purposes of records management inspections conducted under the authority of 44 U.S.C. 2904 and 2906.

(12) To appropriate agencies, entities, and persons when (1) the Department suspects or has confirmed that there has been a breach of the system of records; (2) the Department has determined that as a result of the suspected or confirmed breach there is a risk of harm to individuals, the Department (including its information systems, programs, and operations), the Federal Government, or national security; and (3) the disclosure made to such agencies, entities, and persons is reasonably necessary to assist in connection with the Department's efforts to respond to the suspected or confirmed breach or to prevent, minimize, or remedy such harm.

(13) To another Federal agency or Federal entity, when the Department determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

(14) To any agency, organization, or individual for the purpose of performing authorized audit or oversight operations of EOIR and meeting related reporting requirements.

(15) To such recipients and under such circumstances and procedures as are mandated by Federal statute or treaty.

POLICIES AND PRACTICES FOR STORAGE OF RECORDS:

OP currently stores all relevant information from applications and supporting documents in a mail log, a tracking log, and a new electronic management and storage system that tracks the status, history, and complete lifecycle of each application OP receives. The system also produces reports, collectively called the R&A Rosters, which are lists of all currently approved Recognized Organizations and Accredited Representatives.

Applications for recognition and accreditation may be made using the fillable portable document files (pdfs) available on EOIR's website and submitted with the necessary supporting documentation by regular mail or email to the R&A Program. Applicants will also be able to use the new system to submit applications electronically through the public facing web-based application RAA system located at https://getaccredited.eoir.justice.gov/login. Documents received by regular mail are scanned and uploaded to the system. The new system will allow OP to import data from the network drive, index, and format the documents for optimal character recognition, making the information and documentation available in the system in a searchable electronic format. The capability will include input of data and metadata to aid searching the documents.

OP also receives physical and electronic correspondence from USCIS and members of the public regarding organizations and representatives. That correspondence is also logged in the R&A Program's electronic system. The new electronic system will allow USCIS to submit and store correspondence for use through the RAA system located at https://getaccredited.eoir.justice.gov/login.

POLICIES AND PRACTICES FOR RETRIEVAL OF RECORDS:

Authorized internal users may retrieve paper records by the name of the organization that submitted an application or by a unique tracking number internally assigned by the R&A Program to the particular organization for purposes of file organization and record keeping. Authorized internal users may retrieve electronic records by the name of the organization that submitted an application, the R&A case number assigned to each organization application, or the name of the person on whose behalf an accreditation application was submitted.

POLICIES AND PRACTICES FOR RETENTION AND DISPOSAL OF RECORDS:

The retention period for these records under the Federal Records Act is currently under development. Until the records retention schedule is completed, the records in the system will not be destroyed.

ADMINISTRATIVE, TECHNICAL, AND PHYSICAL SAFEGUARDS:

Information in this system is safeguarded in accordance with appropriate laws, rules, and policies, including the Component's automated systems security and access policies, and access to such information is limited to Department personnel, contractors, and other personnel who have an official need for access in order to perform their duties. Physical records are maintained in a restricted area and directly accessed only by authorized personnel. Electronic records are accessed only by authorized personnel with accounts on the Component's computer network. Additionally, direct access to certain information may be restricted depending on a user's role and responsibility within the system. Physical records are safeguarded in accordance with appropriate laws, rules, and policies based on the classification and handling restrictions of the particular document.

RECORD ACCESS PROCEDURES:

All requests for access to records must be in writing and should be addressed to the EOIR Office of the General Counsel, 5107 Leesburg Pike, Suite 2600, Falls Church, VA 22041, EOIR.FOIARequests@usdoj.gov. The envelope and letter should be clearly marked “Privacy Act Access Request.” The request must describe the records sought in sufficient detail to enable Department personnel to locate them with a reasonable amount of effort. The request must include a general description of the records sought and must include the requester's full name, current address, and place and date of birth. The request must be signed and either notarized or submitted under penalty of perjury.

Although no specific form is required, you may obtain forms for this purpose from the FOIA/Privacy Act Mail Referral Unit, United States Department of Justice, 950 Pennsylvania Avenue NW, Washington, DC 20530, or on the Department of Justice website at http://www.justice.gov/oip/oip-request-html. See also Form EOIR-59, Certification and Release of Records, available at https://www.justice.gov/eoir/eoir-forms.

More information regarding the Department's procedures for accessing records in accordance with the Privacy Act can be found at 28 CFR part 16 subpart D, “Protection of Privacy and Access to Individual Records under the Privacy Act of 1974.”

CONTESTING RECORD PROCEDURES:

The procedures for contesting or amending information contained in this system of records is governed by 8 CFR part 1292. The procedures require that organizations seeking accreditation of their representatives be notified of adverse information and be given an opportunity to rebut such information.

NOTIFICATION PROCEDURES:

Individuals receive notice pursuant to 5 U.S.C. 552a(e)(3) when they complete their application on the website.

EXEMPTIONS PROMULGATED FOR THE SYSTEM:

None.

HISTORY:

This system was previously part of JUSTICE/BIA-002, Roster of Organizations and their Accredited Representatives Recognized by the Board of Immigration Appeals, 45 FR 75908 (Nov. 17, 1980); 66 FR 8425 (Jan. 31, 2001); 87 FR 24147 (May 25, 2017) (rescinding 74 FR 3410 (Jan. 25, 2007)).

[FR Doc. 2025-05846 Filed 4-16-25; 8:45 am]

BILLING CODE 4410-30-P